DEPARTMENT OF HOMELAND SECURITY

Coast Guard

33 CFR Part 117

[CGD05-04-002]

Drawbridge Operation Regulations; Intracoastal Waterway, Beach Thorofare, NJ

AGENCY: Coast Guard, DHS.

ACTION: Notice of temporary deviation from regulations.

SUMMARY: The Commander, Fifth Coast Guard District, has approved a temporary deviation from the regulations governing the operation of the Margate Bridge across Beach Thorofare, at Intracoastal Waterway (ICW) mile 74.0, located in Margate, New Jersey. From midnight on January 4, 2004, through midnight on February 5, 2004, this deviation allows the bridge to remain closed to navigation. This closure is necessary to facilitate emergency mechanical and structural repairs.

DATES: This deviation is effective from midnight on January 4, 2004, through midnight on February 5, 2004.

FOR FURTHER INFORMATION CONTACT: Terrance Knowles, Environmental Protection Specialist, Fifth Coast Guard District, Bridge Section at (757) 398-6587.

SUPPLEMENTARY INFORMATION: Currently, the Margate Bridge is required to open on signal at all times. The Margate Bridge is owned and operated by Ole Hansen & Sons of Cologne, New Jersey. The bridge owner has requested a temporary deviation from the operating regulations set out in 33 CFR 117.5.

The work involves a complete overhaul of the mechanical system and structural repairs of the draw span. To facilitate the repairs, the work requires completely immobilizing the operation of the bascule span in the closed position to vessels from midnight on January 4, 2004, through midnight on February 5, 2004. The Coast Guard has informed the known users of the waterway of the closure period for the bridge caused by the temporary deviation.

The District Commander has granted temporary deviation from the operating requirements listed in 33 CFR 117.35 for the purpose of repair completion of the drawbridge. The temporary deviation allows the Margate Bridge across Beach Thorofare, at ICW mile 74.0, to remain closed to navigation from midnight on January 4, 2004, through midnight on February 5, 2004.

Dated: January 9, 2004.
Waverly W. Gregory, Jr.,
Chief, Bridge Administration Section, Fifth Coast Guard District.

[FR Doc. 04-1056 Filed 1-15-04; 8:45 am]

BILLING CODE 4910-15-P